NUCLEAR REGULATORY COMMISSION

[NRC-2011-0006]

Sunshine Federal Register Notice

AGENCY HOLDING THE MEETINGS: Nuclear Regulatory Commission.

DATE: Week of October 10, 2011.

PLACE: Commissioners' Conference Room, 11555 Rockville Pike, Rockville, Maryland.

STATUS: Public and Closed.

ADDITIONAL ITEMS TO BE CONSIDERED:

Week of October 10, 2011

Wednesday, October 12, 2011

8:55 a.m. Affirmation Session (Public Meeting) (Tentative)

a. Pacific Gas and Electric Company (Diablo Canyon Nuclear Power Plant, Units 1 and 2), Applicant's Notice of Appeal, Brief in Support of Appeal, of LBP-10-15 (Aug. 16, 2010); NRC Staff's Petition for Interlocutory Review of Atomic Safety and Licensing Board Decision (LBP-10-15) Admitting an Out of Scope Safety Contention and Improperly Recasting an Environmental Contention (Aug. 19, 2010); Certified Question and Referred Ruling in LBP-10-15 (Aug. 4, 2010) (Tentative)

b. Shieldalloy Metallurgical Corporation Site (NRC-NJ Section 274 Agreement) -Commission Decision on Remand from Court of Appeals (Tentative)

This meeting will be webcast live at the Web address— http://www.nrc.gov.

* * * * *

* The schedule for Commission meetings is subject to change on short notice. To verify the status of meetings, call (recording)—(301) 415-1292. Contact person for more information: Rochelle Bavol, (301) 415-1651.

* * * * *

The NRC Commission Meeting Schedule can be found on the Internet at: http://www.nrc.gov/about-nrc/policy-making/schedule.html.

* * * * *

The NRC provides reasonable accommodation to individuals with disabilities where appropriate. If you need a reasonable accommodation to participate in these public meetings, or need this meeting notice or the transcript or other information from the public meetings in another format (e.g. braille, large print), please notify Bill Dosch, Chief, Work Life and Benefits Branch, at 301-415-6200, TDD: 301-415-2100, or by e-mail at william.dosch@nrc.gov. Determinations on requests for reasonable accommodation will be made on a case-by-case basis.

* * * * *

This notice is distributed electronically to subscribers. If you no longer wish to receive it, or would like to be added to the distribution, please contact the Office of the Secretary, Washington, DC 20555 (301-415-1969), or send an e-mail to darlene.wright@nrc.gov.

Dated: October 5, 2011.
Rochelle C. Bavol,
Policy Coordinator, Office of the Secretary.

[FR Doc. 2011-26303 Filed 10-6-11; 4:15 pm]

BILLING CODE 7590-01-P